DEPARTMENT OF AGRICULTURE

Forest Service

South Gifford Pinchot National Forest Resource Advisory Committee Meeting Notice

AGENCY: Forest Service, USDA.

ACTION: Notice of meeting.

SUMMARY: The South Gifford Pinchot National Forest Resource Advisory Committee will meet on Tuesday, June 27 and Wednesday, June 28, 2006 at the Skamania County Courthouse Annex, 170 NW Vancouver Ave., Stevenson, Wash. The meeting will begin at 9:30 a.m. and continue until 4:30 p.m. The purpose of the meeting is to review a summary of ongoing Title II and III projects, elect a chair, set an indirect project percentage, and make recommendations on 29 proposals for Title II funding of projects under the Secure Rural Schools and County Self-Determination Act of 2000.

All South Gifford Pinchot National Forest Resource Advisory Committee meetings are open to the public. Interested citizens are encouraged to attend. The “open forum;” provides opportunity for the public to bring issues, concerns, and discussion topics to the Advisory Committee. The “open forum” is scheduled to occur at 9:45 a.m. on June 27 and 28. Interested speakers will need to register prior to the open forum period. The committee welcomes the public's written comments on committee business at any time.

FOR FURTHER INFORMATION CONTACT: Direct questions regarding this meeting to Roger Peterson, Public Affairs Specialist, at (360) 891-5007, or write Forest Headquarters Office, Gifford Pinchot National Forest, 10600 NE. 51st Circle, Vancouver, WA 98682.

Dated: June 2, 2006.
Mike Matarrese,
Acting Forest Supervisor.

[FR Doc. 06-5212 Filed 6-9-06; 8:45 am]

BILLING CODE 3410-11-M